SOCIAL SECURITY ADMINISTRATION

20 CFR Part 404

[Docket No. SSA-2012-0075]

RIN 0960-AH54

Revised Medical Criteria for Evaluating Hearing Loss and Disturbances of Labyrinthine-Vestibular Function

AGENCY: Social Security Administration.

ACTION: Advance notice of proposed rulemaking (ANPRM).

SUMMARY: We are requesting your comments on whether and how we should revise the criteria in our Listing of Impairments (listings) for evaluating hearing loss and disturbances of labyrinthine-vestibular function in adults and children. We are requesting your comments as part of our ongoing effort to ensure that our listings reflect current medical knowledge. If we propose specific revisions, we will publish a notice of proposed rulemaking in the Federal Register.

DATES: To ensure that we consider your comments, we must receive them by no later than October 29, 2013.

ADDRESSES: You may submit comments by any one of three methods—Internet, fax, or mail. Do not submit the same comments multiple times or by more than one method. Regardless of which method you choose, please state that your comments refer to Docket No. SSA-2012-0075 so that we may associate your comments with this ANPRM.

Caution: You should be careful to include in your comments only information that you wish to make publicly available. We strongly urge you not to include in your comments any personal information, such as Social Security numbers or medical information.

1. Internet: We strongly recommend that you submit your comments via the Internet. Visit the Federal eRulemaking portal at http://www.regulations.gov. Use the Search function to find docket number SSA-2012-0075. The system will issue you a tracking number to confirm your submission. You will not be able to view your comment immediately because we must post each comment manually. It may take up to a week for your comment to be viewable.

2. Fax: Fax comments to (410) 966-2830.

3. Mail: Address your comments to the Office of Regulations and Reports Clearance, Social Security Administration, 107 Altmeyer Building, 6401 Security Boulevard, Baltimore, Maryland 21235-6401.

Comments are available for public viewing on the Federal eRulemaking portal at http://www.regulations.gov or in person, during regular business hours, by arranging with the contact person identified below.

FOR FURTHER INFORMATION CONTACT: Cheryl A. Williams, Office of Medical Listings Improvement, Social Security Administration, 6401 Security Boulevard, Baltimore, Maryland 21235-6401, (410) 965-1020. For information on eligibility or filing for benefits, call our national toll-free number, 1-800-772-1213 or TTY 1-800-325-0778, or visit our Internet site, Social Security Online, at http://www.socialsecurity.gov.

SUPPLEMENTARY INFORMATION:

What is the purpose of this ANPRM?

We are publishing this ANPRM as part of our ongoing effort to ensure that our listing criteria reflect current medical knowledge. This ANPRM gives you an opportunity to send us your comments and suggestions on revisions to the introductory text sections 2.00B and 102.00B and the listings and other criteria in sections 2.00 and 102.00 for evaluating hearing loss and disturbances of labyrinthine-vestibular function. We last published final rules revising the criteria that we use to evaluate hearing disorders on June 2, 2010.¹ We last published final rules with the criteria we use to evaluate disturbances in labyrinthine-vestibular function on December 6, 1985.²

¹ 75 FR 30693.

² 50 FR 50068.

On which rules are we inviting comments and suggestions?

We are inviting comments and suggestions on our current rules which you can find in sections 2.00 and 102.00 in the listings in appendix 1 to subpart P of part 404 of our regulations, on the Internet at http://www.ssa.gov/OP_Home/cfr20/404/404-app-p01.htm.

Who should send us comments and suggestions?

We invite comments and suggestions from people who apply for or receive benefits from us, advocates and organizations that represent people who have hearing disorders or disturbances of labyrinthine-vestibular function, State agencies that make disability determinations for us, experts in the evaluation of hearing disorders, researchers, and other members of the general public.

What should you comment about?

We are interested in any comments and suggestions on how we might revise introductory text sections 2.00B and 102.00B, listing 2.07 for evaluating disturbances of labyrinthine-vestibular function, and listings 2.10, 2.11, 102.10, and 102.11 for evaluating hearing loss. For example:

• Do the rules for evaluating hearing loss or disturbances of labyrinthine-vestibular function contain technical language or jargon that is not clearly explained? If not clearly explained, what technical language or jargon needs further explanation?

• Are the requirements for otological examinations and audiometric testing provided in sections 2.00B and 102.00B clearly stated? If not clearly stated, what requirements need further clarification?

• What types of testing should we consider when evaluating hearing loss in adults or children who cannot cooperate in behavioral testing?

• Would it be helpful to add a sample audiogram that contains all the requirements necessary for evaluation of hearing loss in adults or children?

• What word recognition tests other than the Hearing in Noise Test (HINT) or the Hearing in Noise Test—Children (HINT-C) should we consider when we evaluate hearing loss treated with cochlear implantation?

• Should we provide examples of medical reasons for a discrepancy between the speech reception threshold and the pure tone average?

• Could we improve clarity by replacing the phrase “disturbances in labyrinthine-vestibular function” with the phrase “disturbances of inner ear function”?

• Rather than evaluating disturbances in labyrinthine-vestibular function in adults under the listings, would evaluating disturbances in labyrinthine-vestibular function using residual functional capacity ³ improve the determination process?

³ Residual functional capacity describes what a person can still do despite his or her impairment(s). 20 CFR 404.1545 and 416.945.

• Should we continue to evaluate disturbances of labyrinthine-vestibular function under the Special Senses and Speech body system?

• What else could we do to make the rules for evaluating hearing or disturbances in labyrinthine-vestibular function easier to understand?

• Would a different format make the rules easier to understand (for example, changing the grouping or ordering of sections; use of headings; paragraphing; use of diagrams; use of tables)?

• Experts who study disability believe that many personal, environmental, educational, and social factors contribute in significant ways to the relationship between a person's hearing ability and the ability to work. Rather than providing criteria for evaluating hearing loss in adults under the listings, should we evaluate all hearing loss using residual functional capacity?

Will we respond to your comments from this notice?

We will consider all comments and suggestions we receive. However, we will not respond directly to the comments you send in response to this ANPRM.

What will we consider when we decide whether to propose revisions?

When we decide whether to propose revisions to our rules for evaluating hearing loss or disturbances in labyrinthine-vestibular function, we will consider:

• All comments and suggestions we receive in response to this notice;

• Information about advances in medical knowledge, treatment, and methods of evaluating hearing loss or disturbances in labyrinthine-vestibular function; and

• Our disability program experience.

In addition, we will consider the following when we decide whether to propose revisions to our rules for evaluating labyrinthine-vestibular function:

• The comments and suggestions that we received in response to an ANPRM that we published on April 13, 2005.⁴

⁴ Revised Medical Criteria for Evaluating Hearing Impairments and Disturbance of Labyrinthine-Vestibular Function, 70 FR 19353. The comments we received in response to this ANPRM are available at: www.regulations.gov, by searching for docket “SSA-2006-0178”.

• Information we received at a Policy Conference on Hearing Impairments and Disturbance of Labyrinthine-Vestibular Function, held November 7-8, 2005.⁵

⁵ The full transcript for the Policy Conference presentations on labyrinthine-vestibular function is available at: http://www.regulations.gov/#!documentDetail;D=SSA-2006-0178-0003.

If we decide to propose specific revisions, we will publish a notice of proposed rulemaking in the Federal Register and you will have a chance to comment on the revisions we propose.

List of Subjects in 20 CFR Part 404

Administrative practice and procedure, Blind, Disability benefits, Old-age, Survivors and disability insurance, Reporting and recordkeeping requirements, Social security.

Dated: August 22, 2013.
Carolyn W. Colvin,
Acting Commissioner of Social Security.

[FR Doc. 2013-21143 Filed 8-29-13; 8:45 am]

BILLING CODE 4191-02-P